DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by May 9, 2003.

Title, Form Number, and OMB Number: International Military Student Information; DD Form 2339; OMB Number 0702-0064.

Type of Request: Reinstatement.

Number of Respondents: 3,000.

Responses Per Respondent: 1.

Annual Responses: 3000.

Average Burden Per Resonse: 15 minutes (average).

Annual Burden Hours: 750 hours.

Needs and Uses: The DD Form 2399 is required in support of international military students who are attending training in the United States with the Military Departments as part of the security assistance training program. The DD Form 2399 is utilized in gathering information on the international student prior to his/her arrival in the United States in order that civilian and military sponsors can be assigned to assist the student during his/her training.

Affected Public: Individuals or Households.

Frequency: On Occasion.

Respondent's Obligation: Voluntary.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: April 3, 2003.
Patricia L. Toppings,
Alternate OSD Federal Register, Liaison Officer Department of Defense.

[FR Doc. 03-8620 Filed 4-8-03; 8:45 am]

BILLING CODE 5001-08-M